DEPARTMENT OF HEALTH AND HUMAN SERVICES

Food and Drug Administration

21 CFR Part 101

[Docket No. 2003N-0346]

Food Labeling: Ingredient Labeling of Dietary Supplements That Contain Botanicals; Withdrawal

AGENCY: Food and Drug Administration, HHS.

ACTION: Direct final rule; withdrawal.

SUMMARY: The Food and Drug Administration (FDA) published in the Federal Register of August 28, 2003 (68 FR 51693), a direct final rule to amend the regulation on the designation of ingredients in dietary supplements by incorporating by reference the most recent editions of the references Herbs of Commerce and the International Code of Botanical Nomenclature. The direct final rule also would have added a sentence to this regulation codifying the requirements contained in the Farm Security and Rural Investment Act of 2002 (Public Law 107-171) that restrict the use of the term “ginseng” as a common or usual name to botanicals within the genus “Panax” and limiting the use of the term “ginseng” to labeling and advertising of herbs or herbal ingredients classified within the genus “Panax.” FDA is withdrawing the direct final rule because the agency received significant adverse comment.

DATES: The direct final rule published at 68 FR 51693, August 28, 2003, is withdrawn as of December 28, 2005.

FOR FURTHER INFORMATION CONTACT: Susan Thompson, Office of Nutritional Products, Labeling and Dietary Supplements (HFS-810), Food and Drug Administration, 5100 Paint Branch Pkwy., College Park, MD 20740, 301-436-1784.

Authority: Therefore, under the Federal Food, Drug, and Cosmetic Act and under authority delegated to the Commissioner of Food and Drugs, the direct final rule published on August 28, 2003 (68 FR 51693), is withdrawn.

Dated: December 21, 2005.
Jeffrey Shuren,
Assistant Commissioner for Policy.

[FR Doc. 05-24511 Filed 12-27-05; 8:45 am]

BILLING CODE 4160-01-S